DEPARTMENT OF HEALTH AND HUMAN SERVICES

Administration for Children and Families

State Median Income Estimate for a Four-Person Family: Notice of the Federal Fiscal Year (FFY) 2009 State Median Income Estimates for Use Under the Low Income Home Energy Assistance Program (LIHEAP) (CFDA Number 93.568) Administered by the U.S. Department of Health and Human Services (HHS), Administration for Children and Families, Office of Community Services, Division of Energy Assistance

AGENCY: Administration for Children and Families, Office of Community Services, Division of Energy Assistance, HHS.

ACTION: Notice of State median income estimates for FFY 2009.

SUMMARY: This notice announces the estimated median income for four-person families in each State and the District of Columbia for FFY 2009 (October 1, 2008 to September 30, 2009). LIHEAP grantees may adopt the State median income estimates beginning with the date of publication in the Federal Register or at a later date as discussed below. This enables LIHEAP grantees to choose to implement this notice during the period between the heating and cooling seasons. However, by October 1, 2008, or the beginning of a grantee's fiscal year, whichever is later, LIHEAP grantees using State median income estimates must adjust their income eligibility criteria to be in accord with the FFY 2009 State median income estimates.

This listing of estimated State median incomes provides one of the maximum income criteria that LIHEAP grantees may use in determining a household's income eligibility for LIHEAP.

DATES: Effective Date: The estimates become effective at any time between the date of this publication and October 1, 2008, or the beginning of a LIHEAP grantee's fiscal year, whichever is later.

FOR FURTHER INFORMATION CONTACT: Peter Edelman, Office of Community Services, Division of Energy Assistance, 5th Floor West, 370 L'Enfant Promenade, SW., Washington, DC 20447, Telephone: (202) 401-5292, E-Mail: peter.edelman@acf.hhs.gov.

SUPPLEMENTARY INFORMATION: Under the provisions of section 2603(11) of Title XXVI of the Omnibus Budget Reconciliation Act of 1981, Public Law (Pub. L.) 97-35, as amended, HHS announces the estimated median income of a four-person family for each State, the District of Columbia, and the United States for FFY 2009 (October 1, 2008, through September 30, 2009).

Section 2605(b)(2)(B)(ii) of the LIHEAP statute provides that 60 percent of the median income for each State, as annually established by the Secretary of Health and Human Services, is one of the income criteria that LIHEAP grantees may use in determining a household's eligibility for LIHEAP.

LIHEAP was last authorized by the Energy Policy Act of 2005, PL 109-58, enacted on August 8, 2005. This authorization expired on September 30, 2007. Reauthorization of LIHEAP is pending.

Estimates of the median income for a four-person family for each State and the District of Columbia for FFY 2009 have been produced by the U.S. Census Bureau, U.S. Department of Commerce. In developing these estimates, the U.S. Census Bureau used the most recently available income data, which was data from the 2006 American Community Survey (ACS). For additional information about the ACS State median income estimates, see http://www.census.gov/hhes/www/income/medincsizeandstate.html or contact the U.S. Census Bureau's Housing and Household Economic Statistics Division at (301) 763-3243. For additional information about the ACS in general, see http://www.census.gov/acs/www/.

The State median income estimates, like those that derive from any survey, are subject to two types of errors: (1) Nonsampling Error, which consists of random errors that increase the variability of the data and non-random errors that consistently direct the data into a specific direction; and (2) Sampling Error, which consists of the error that arises from the use of probability sampling to create the sample. For additional information about the accuracy of the ACS State median income estimates, see http://www.census.gov/acs/www/Downloads/ACS/accuracy2006.pdf.

A State-by-State listing of median income and 60 percent of median income for a four-person family for FFY 2009 follows. The listing describes the method for adjusting median income for families of different sizes as specified in regulations applicable to LIHEAP, at 45 CFR 96.85(b), published in the Federal Register on March 3, 1988 at 53 FR 6824.

Dated: February 11, 2008.
Josephine B. Robinson,
Director, Office of Community Services.

Estimated State Median Income for a Four-Person Family, by State, Federal Fiscal Year
[(FFY) 2009 ¹]
States | Estimated state median income for a four-person family² | 60 percent of estimated State median income for a four-person family ³
Alabama | $60,298 | $36,179
Alaska | 71,781 | 43,069
Arizona | 65,050 | 39,030
Arkansas | 52,185 | 31,311
California | 74,801 | 44,881
Colorado | 75,775 | 45,465
Connecticut | 93,821 | 56,293
Delaware | 78,321 | 46,993
District of Columbia | 71,571 | 42,943
Florida | 65,024 | 39,014
Georgia | 66,711 | 40,027
Hawaii | 84,472 | 50,683
Idaho | 58,066 | 34,840
Illinois | 75,484 | 45,290
Indiana | 67,787 | 40,672
Iowa | 67,792 | 40,675
Kansas | 67,897 | 40,738
Kentucky | 60,202 | 36,121
Louisiana | 60,161 | 36,097
Maine | 63,501 | 38,101
Maryland | 94,017 | 56,410
Massachusetts | 89,347 | 53,608
Michigan | 72,591 | 43,555
Minnesota | 81,477 | 48,886
Mississippi | 52,992 | 31,795
Missouri | 63,274 | 37,964
Montana | 60,576 | 36,346
Nebraska | 68,917 | 41,350
Nevada | 66,095 | 39,657
New Hampshire | 87,396 | 52,438
New Jersey | 94,441 | 56,665
New Mexico | 52,034 | 31,220
New York | 75,513 | 45,308
North Carolina | 61,420 | 36,852
North Dakota | 67,560 | 40,536
Ohio | 68,579 | 41,147
Oklahoma | 55,031 | 33,019
Oregon | 64,832 | 38,899
Pennsylvania | 74,072 | 44,443
Rhode Island | 78,189 | 46,913
South Carolina | 59,663 | 35,798
South Dakota | 63,508 | 38,105
Tennessee | 60,143 | 36,086
Texas | 59,808 | 35,885
Utah | 63,586 | 38,152
Vermont | 67,884 | 40,730
Virginia | 78,413 | 47,048
Washington | 75,140 | 45,084
West Virginia | 55,920 | 33,552
Wisconsin | 72,495 | 43,497
Wyoming | 71,559 | 42,935
Note: FFY 2009 covers the period of October 1, 2008 through September 30, 2009. The estimated median income for a four-person family living in the United States is $70,354 for FFY 2009. The estimates become effective for the Low Income Home Energy Assistance Program (LIHEAP) at any time between the date of this publication and October 1, 2008, or the beginning of a LIHEAP grantee's fiscal year, whichever is later.
¹ Prepared by the U.S. Census Bureau from the 2006 American Community Survey (ACS). The State median income estimates, like those that derive from any survey, are subject to two types of errors: (1) Nonsampling Error, which consists of random errors that increase the variability of the data and non-random errors that consistently direct the data into a specific direction; and (2) Sampling Error, which consists of the error that arises from the use of probability sampling to create the sample.
² In accordance with 45 CFR 96.85, each State's estimated median income for a four-person family is multiplied by the following percentages to adjust for family size for LIHEAP: 52 percent for one person, 68 percent for two persons, 84 percent for three persons, 100 percent for four persons, 116 percent for five persons, and 132 percent for six persons. For each additional family member above six persons, add 3 percentage points to the percentage for a six-person family (132 percent), and multiply the new percentage by the State's estimated median income for a four-person family.
³ These figures were calculated by the Division of Energy Assistance (DEA). DEA calculated these figures by multiplying the estimated State median income for a four-person family for each State by 60 percent.

[FR Doc. E8-4190 Filed 3-4-08; 8:45 am]

BILLING CODE 4184-01-P